DEPARTMENT OF HEALTH AND HUMAN SERVICES

National Institutes of Health

National Toxicology Program Board of Scientific Counselors; Announcement of Meeting; Request for Comments

SUMMARY: This notice announces the next meeting of the National Toxicology Program (NTP) Board of Scientific Counselors (BSC). The BSC, a federally chartered, external advisory group composed of scientists from the public and private sectors, will review and provide advice on programmatic activities. The meeting is open to the public except for parts that are closed, as indicated on the agenda. Registration is requested for both attendance and oral comment and required to access the webcast. Information about the meeting and registration will be available at http://ntp.niehs.nih.gov/go/165.

DATES:

Meeting: December 1-2, 2015; it begins at 8:00 a.m. Eastern Standard Time (EST) on December 1 and at 10:00 a.m. on December 2 and continues each day until adjournment.

Written Public Comment Submissions: Deadline is November 17, 2015.

Registration for Meeting and/or Oral Comments: Deadline is November 24, 2015.

Registration to View Webcast: Deadline is December 2, 2015. Registration to view the meeting via the webcast is required.

ADDRESSES:

Meeting Location: Rodbell Auditorium, Rall Building, National Institute of Environmental Health Sciences (NIEHS), 111 T.W. Alexander Drive, Research Triangle Park, NC 27709.

Meeting Web Page: The preliminary agenda, registration, and other meeting materials will be at http://ntp.niehs.nih.gov/go/165.

Webcast: The meeting will be webcast on December 2; the URL will be provided to those who register for viewing.

FOR FURTHER INFORMATION CONTACT:

Dr. Lori White, Designated Federal Officer for the BSC, Office of Liaison, Policy and Review, Division of NTP, NIEHS, P.O. Box 12233, K2-03, Research Triangle Park, NC 27709. Phone: 919-541-9834, email: whiteld@niehs.nih.gov. Hand Deliver/Courier address: 530 Davis Drive, Room K2124, Morrisville, NC 27560.

SUPPLEMENTARY INFORMATION:

Meeting and Registration: Parts of the meeting are open to the public as indicated on the agenda; in-person attendance at NIEHS is limited only by the space available. Parts of the meeting are closed to the public as indicated on the agenda in accordance with the provisions set forth in section 552(c)(6), Title 5 U.S.C., as amended, for the review, discussion, and evaluation of individual intramural programs and projects conducted by NIEHS, including consideration of personnel qualifications and performance, and the competence of individual investigators, the disclosure of which would constitute a clearly unwarranted invasion of personal privacy.

The BSC will provide input to the NTP on programmatic activities and issues. Preliminary agenda topics include: Reports from the NIEHS/NTP Director and the NTP Associate Director, review of the Cellular and Molecular Pathology Branch, a contract concept titled Statistical Support—Informatics, an update on the National Center for Toxicological Research Interagency Agreement and arsenic research project, a report on the NTP Technical Report peer review on pentabromodiphenyl ether mixture [DE-71 Technical Grade], and a report on the Office of Report Carcinogens peer review on cobalt and certain cobalt compound. The Office of Health Assessment and Translation will present two evaluation concepts: Mountaintop removal mining (health impacts on surrounding communities) and fluoride (developmental neurotoxicity).

The preliminary agenda, roster of BSC members, background materials, public comments, and any additional information, when available, will be posted on the BSC meeting Web site (http://ntp.niehs.nih.gov/go/165) or may be requested in hardcopy from the Designated Federal Officer for the BSC. Following the meeting, summary minutes will be prepared and made available on the BSC meeting Web site.

The public may attend the meeting in person on both days or view the webcast on December 2. Registration is required to view the webcast; the URL for the webcast will be provided in the email confirming registration. Individuals who plan to provide oral comments (see below) should register online at the BSC meeting Web site (http://ntp.niehs.nih.gov/go/165) by November 24, 2015, to facilitate planning for the meeting. Individuals are encouraged to access the Web site to stay abreast of the most current information regarding the meeting. Visitor and security information for those attending in-person is available at niehs.nih.gov/about/visiting/index.cfm. Individuals with disabilities who need accommodation to participate in this event should contact Ms. Robbin Guy at phone: (919) 541-4363 or email: guyr2@niehs.nih.gov. TTY users should contact the Federal TTY Relay Service at 800-877-8339. Requests should be made at least five business days in advance of the event.

Request for Comments: Written comments submitted in response to this notice should be received by November 17, 2015. Comments will be posted on the BSC meeting Web site and persons submitting them will be identified by their name and affiliation and/or sponsoring organization, if applicable. Persons submitting written comments should include their name, affiliation (if applicable), phone, email, and sponsoring organization (if any) with the document.

Time is allotted during the meeting for the public to present oral comments to the BSC on the agenda topics. Public comments can be presented in-person at the meeting or by teleconference line. There are 50 lines for this call; availability is on a first-come, first-served basis. The lines will be open on December 2 from 10:00 a.m. until adjournment, although the BSC will receive public comments only during the formal public comment periods, which are indicated on the preliminary agenda. Each organization (sponsoring organization or affiliation) is allowed one time slot per agenda topic. Each speaker is allotted at least 7 minutes, which if time permits, may be extended to 10 minutes at the discretion of the BSC chair. Persons wishing to present oral comments should register on the BSC meeting Web site by November 24, 2015, indicate whether they will present comments in-person or via the teleconference line, and identify the topic(s) on which they plan to comment. The access number for the teleconference line will be provided to registrants by email prior to the meeting. On-site registration for oral comments will also be available on the meeting day, although time allowed for comments by these registrants may be limited and will be determined by the number of persons who register at the meeting.

Persons registering to make oral comments are asked to send a copy of their statement and/or PowerPoint slides to the Designated Federal Officer by November 24, 2015. Written statements can supplement and may expand upon the oral presentation. If registering on-site and reading from written text, please bring 20 copies of the statement for distribution to the BSC and NTP staff and to supplement the record.

Background Information on the BSC: The BSC is a technical advisory body comprised of scientists from the public and private sectors that provides primary scientific oversight to the NTP. Specifically, the BSC advises the NTP on matters of scientific program content, both present and future, and conducts periodic review of the program for the purpose of determining and advising on the scientific merit of its activities and their overall scientific quality. Its members are selected from recognized authorities knowledgeable in fields such as toxicology, pharmacology, pathology, biochemistry, epidemiology, risk assessment, carcinogenesis, mutagenesis, molecular biology, behavioral toxicology, neurotoxicology, immunotoxicology, reproductive toxicology or teratology, and biostatistics. Members serve overlapping terms of up to four years. The BSC usually meets biannually. The authority for the BSC is provided by 42 U.S.C. 217a, section 222 of the Public Health Service Act (PHS), as amended. The BSC is governed by the provisions of the Federal Advisory Committee Act, as amended (5 U.S.C. app.), which sets forth standards for the formation and use of advisory committees.

Dated: October 8, 2015.
John R. Bucher,
Associate Director, NTP.

[FR Doc. 2015-26051 Filed 10-13-15; 8:45 am]

BILLING CODE 4140-01-P